DEPARTMENT OF THE INTERIOR

National Park Service

Notice of Inventory Completion: Fowler Museum of Cultural History, University of California, Los Angeles, Los Angeles, CA

AGENCY: National Park Service, Interior.

ACTION: Notice.

Notice is here given in accordance with the Native American Graves Protection and Repatriation Act (NAGPRA), 25 U.S.C. 3003, of the completion of an inventory of human remains and associated funerary objects in the possession of Fowler Museum of Cultural History (Fowler Museum at UCLA), University of California, Los Angeles, Los Angeles, CA. The human remains and associated funerary objects were removed from site 4-LAN-192, Los Angeles County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Fowler Museum at UCLA professional staff in consultation with representatives of Morongo Band of Cahuilla Mission Indians of the Morongo Reservation, California; San Manuel Band of Serrano Mission Indians of the San Manuel Reservation, California; Cahuilla Inter-Tribal Repatriation Committee, a non-federally recognized Indian group; and Kitanemuk Indians, a non-federally recognized Indian group.

In 1968, human remains representing a minimum of nine individuals were removed from the Lovejoy Springs site (4-LAN-192) in Los Angeles County, CA, by James Toney during a salvage of a mortuary area being destroyed by development. The collection was accessioned by the University of California, Los Angeles in 1969. No known individuals were identified. The 3,364 associated funerary objects are 1 projectile point, 1 quartz flake, 4 worked bird bone fragments, 2,135 olivella saucer beads, 1,101 olivella spire lopped beads, and 122 olivella beads.

Lovejoy Springs is located within the traditional territory of the Serrano. The artifacts are consistent with others documented as associated with the indigenous inhabitants of the area. The beads and projectile point associated with the burials date to Middle Period Phase 2a (circa 50 B.C. - A.D. 400). The pictograph styles of the area near the burials suggest an association with traditional Serrano linguistic groups. It is reasonably believed by archeologists that Serrano/Takic speakers have continuously occupied the San Bernardino Mountains and the area north of the San Bernardino Mountains since at least 1,000 B.C. Tribal representatives from San Manuel Band of Serrano Mission Indians of the San Manuel Reservation, California identified this site as from within the traditional territory of the Serrano people. Descendants of the Serrano are members of the Agua Caliente Band of Cahuilla Indians of the Agua Caliente Indian Reservation, California; Augustine Band of the Cahuilla Mission Indians of the Augustine Reservation, California; Cabazon Band of Mission Indians, California; Cahuilla Band of Mission Indians of the Cahuilla Reservation, California; Los Coyotes Band of Cahuilla & Cupeno Indians of the Los Coyotes Reservation, California; Morongo Band of Cahuilla Mission Indians of the Morongo Reservation, California; Ramona Band or Village of Cahuilla Mission Indians of California; San Manuel Band of Serrano Mission Indians of the San Manuel Reservation, California; Santa Rosa Band of Cahuilla Mission Indians of the Santa Rosa Reservation, California; and Torres Martinez Band of Cahuilla Mission Indians of California.

Officials of the Fowler Museum at UCLA have determined that, pursuant to 25 U.S.C. 3001 (9-10), the human remains described above represent the physical remains of nine individuals of Native American ancestry. Officials of the Fowler Museum at UCLA also have determined that, pursuant to 25 U.S.C. 3001 (3)(A), the 3,364 objects described above are reasonably believed to have been placed with or near individual human remains at the time of death or later as part of the death rite or ceremony. Lastly, officials of the Fowler Museum at UCLA have determined that, pursuant to 25 U.S.C. 3001 (2), there is a relationship of shared group identity that can be reasonably traced between the Native American human remains and associated funerary objects and the Agua Caliente Band of Cahuilla Indians of the Agua Caliente Indian Reservation, California; Augustine Band of the Cahuilla Mission Indians of the Augustine Reservation, California; Cabazon Band of Mission Indians, California; Cahuilla Band of Mission Indians of the Cahuilla Reservation, California; Los Coyotes Band of Cahuilla & Cupeno Indians of the Los Coyotes Reservation, California; Morongo Band of Cahuilla Mission Indians of the Morongo Reservation, California; Ramona Band or Village of Cahuilla Mission Indians of California; San Manuel Band of Serrano Mission Indians of the San Manuel Reservation, California; Santa Rosa Band of Cahuilla Mission Indians of the Santa Rosa Reservation, California; and Torres Martinez Band of Cahuilla Mission Indians of California.

Representatives of any other Indian tribe that believes itself to be culturally affiliated with the human remains and associated funerary objects should contact Wendy Teeter, Curator of Archaeology, Fowler Museum at UCLA, Box 951549, Los Angeles, CA 90095-1549, telephone (310) 825-1864, before October 19, 2007. Repatriation of the human remains and associated funerary objects to the Agua Caliente Band of Cahuilla Indians of the Agua Caliente Indian Reservation, California; Augustine Band of the Cahuilla Mission Indians of the Augustine Reservation, California; Cabazon Band of Mission Indians, California; Cahuilla Band of Mission Indians of the Cahuilla Reservation, California; Los Coyotes Band of Cahuilla & Cupeno Indians of the Los Coyotes Reservation, California; Morongo Band of Cahuilla Mission Indians of the Morongo Reservation, California; Ramona Band or Village of Cahuilla Mission Indians of California; San Manuel Band of Serrano Mission Indians of the San Manuel Reservation, California; Santa Rosa Band of Cahuilla Mission Indians of the Santa Rosa Reservation, California; and Torres Martinez Band of Cahuilla Mission Indians of California may proceed after that date if no additional claimants come forward.

Fowler Museum at UCLA is responsible for notifying the Agua Caliente Band of Cahuilla Indians of the Agua Caliente Indian Reservation, California; Augustine Band of the Cahuilla Mission Indians of the Augustine Reservation, California; Cabazon Band of Mission Indians, California; Cahuilla Band of Mission Indians of the Cahuilla Reservation, California; Los Coyotes Band of Cahuilla & Cupeno Indians of the Los Coyotes Reservation, California; Morongo Band of Cahuilla Mission Indians of the Morongo Reservation, California; Ramona Band or Village of Cahuilla Mission Indians of California; San Manuel Band of Serrano Mission Indians of the San Manuel Reservation, California; Santa Rosa Band of Cahuilla Mission Indians of the Santa Rosa Reservation, California; Torres Martinez Band of Cahuilla Mission Indians of California; Cahuilla Inter-Tribal Repatriation Committee, a non-federally recognized Indian group; and Kitanemuk Indians, a non-federally recognized Indian group that this notice has been published.

Dated: August 29, 2007.
Sherry Hutt,
Manager, National NAGPRA Program.

[FR Doc. E7-18488 Filed 9-18-07; 8:45 am]

BILLING CODE 4312-50-S